DEPARTMENT OF STATE

[Public Notice: 9635]

Notice of 30-Day Public Comment Period Regarding the National Interest Determination for NuStar Logistics, LP Presidential Permit Application

AGENCY: Department of State.

ACTION: Notice of solicitation of comments.

SUMMARY: NuStar Logistics, LP (“NuStar”) applied for a Presidential Permit to authorize the construction, connection, operation, and maintenance of pipeline facilities for the export and import of petroleum products, including diesel, gasoline, jet fuel, liquefied petroleum gas (“LPG”) and natural gas liquids (“NGLs”). The application requests authorization from the Department of State (“State Department”) for a new 10-inch outer diameter pipeline and associated facilities (“New Burgos Pipeline”) in the same right of way as an existing 8-inch pipeline for which a Presidential Permit was issued on February 17, 2006 (“Existing Burgos Pipeline”).¹ Both pipelines would connect the Petroleos Mexicanos Burgos Gas Plant near Reynosa, Tamaulipas, Mexico and the NuStar terminal near Edinburg, Texas in Hidalgo County, Texas at the United States-Mexico border.

¹ Per another Federal Register Notice published today, the Department has separately requested the public's views with regard to NuStar's application for an amended Presidential Permit for the Existing Burgos Pipeline that would: (1) Reflect NuStar's name change from Valero Logistics Operations, LP to NuStar Logistics, LP as the owner and operator of the Existing Burgos Pipeline and (2) authorize the Existing Burgos Pipeline border facilities to transport a broader range of petroleum products than allowed by the 2006 Presidential Permit, including LPG and NGLs.

After consulting with the public and interested agencies, on June 16, 2016, the State Department approved a Final Environmental Assessment (“EA”) for the Existing Burgos Pipeline and New Burgos Pipeline and a Finding of No Significant Impact (“FONSI”). Background information related to the application, including the EA and FONSI may be found at: http://www.state.gov/e/enr/applicant/applicants/index.htm.

Executive Order 13337 (69 FR 25299) calls on the Secretary of State, or his designee, to determine if issuance of a Presidential Permit would serve the national interest. This decision will take into account a wide range of factors, including energy security; environmental, cultural, and economic impacts; foreign policy; and compliance with relevant federal regulations and issues.

The State Department invites members of the public to comment on any factor they deem relevant to the national interest determination that will be made for this permit application. Along with other factors such as those listed above, these comments will be considered in the final national interest determination. The public comment period will end 30 days from the publication of this notice.

Comments are not private. They will be posted on the site http://www.regulations.gov. The comments will not be edited to remove identifying or contact information, and the State Department cautions against including any information that one does not want publicly disclosed. The State Department requests that any part soliciting or aggregating comments received from other persons for submission to the State Department inform those persons that the State Department will not edit their comments to remove identifying or contact information, and that they should not include any information in their comments that they do not want publicly disclosed.

DATES: Comments must be submitted no later than August 15, 2016 at 11:59 p.m.

ADDRESSES: For reasons of efficiency, the State Department encourages the electronic submission of comments through the federal government's eRulemaking Portal (http://www.regulations.gov), enter the Docket No. DOS-2016-0049, and follow the prompts to submit a comment.

The State Department also will accept comments submitted in hard copy by mail and postmarked no later than August 15, 2016. Please note that standard mail delivery to the State Department can be delayed due to security screening. To submit comments by mail, use the following address: Office of Energy Diplomacy, Energy Resources Bureau (ENR/EDP/EWA) Department of State, 2201 C St. NW., Ste. 4428, Attn: Sydney Kaufman, Washington, DC 20520.

Dated: July 7, 2016.
R. Chris Davy,
Deputy Director, Office of Europe, Western Hemisphere and Africa, Bureau of Energy Resource, Department of State.

[FR Doc. 2016-16676 Filed 7-13-16; 8:45 am]

BILLING CODE 4710-AE-P